DEPARTMENT OF HOMELAND SECURITY

Federal Emergency Management Agency

[Docket ID: FEMA-2015-0008; OMB No. 1660-0030]

Agency Information Collection Activities: Proposed Collection; Comment Request; Manufactured Housing Operations Forms

AGENCY: Federal Emergency Management Agency, DHS.

ACTION: Notice; correction.

On February 9, 2015, the Federal Emergency Management Agency (FEMA) published an agency information collection notice in the Federal Register at 80 FR 7005. In the For Further Information Contact section, FEMA inadvertently listed the email address for the Records Management Division as FEMA-Information-Collections-anagement@fema.dhs.gov. It should be FEMA-Information-Collections-Management@fema.dhs.gov.

Dated: February 11, 2015.
Charlene D. Myrthil,
Director, Records Management Division, Mission Support, Federal Emergency Management Agency, Department of Homeland Security.

[FR Doc. 2015-03368 Filed 2-17-15; 8:45 am]

BILLING CODE 9111-23-P